DEPARTMENT OF TRANSPORTATION

[OMB Control No. 2105-0573; Docket No. DOT-OST-2022-0085]

Notice and Request for Comments on Revision of a Previously Approved Information Collection Request

AGENCY: Department of Transportation.

ACTION: Notice; request for comment.

SUMMARY: In accordance with the Paperwork Reduction Act of 1995, the Department of Transportation's (DOT) Office of the Secretary (OST) announces its plan to submit the Information Collection Request (ICR) described below to the Office of Management and Budget (OMB) for its review and approval and invites public comment. The Executive Order, ``Setting Customer Service Standards,'' directs Federal agencies to provide service to the public that matches or exceeds the best service available in the private sector. In order to work continuously to ensure that our programs are effective and meet our customers' needs, the Department of Transportation (DOT) seeks a renewal without revision to a fast track generic clearance information collection request already approved by OMB. OST requests renewal without revision of ICR with OMB Control Number: 2105-0573 as described below. We published a Federal Register Notice with a 60-day public comment period on this information collection on May 24, 2022. We are required to publish this notice in the Federal Register by the Paperwork Reduction Act of 1995.

DATES: Submit comments on or before: September 2, 2022.

ADDRESSES: Submit comments identified by Information Collection 2105-0573, Fast Track Generic Clearance for the Collection of Qualitative Feedback on Agency Service Delivery, by any of the following methods:

• Federal eRulemaking portal: https://www.regulations.gov. Follow the instructions for submitting comments. Comments submitted electronically, including attachments to https://www.regulations.gov, will be posted to the docket unchanged.

• Mail: U.S. Department of Transportation, Office of the Chief Information Officer, 1200 New Jersey Avenue SE, Washington, DC 20590. ATTN: Chief Data Officer/IC 2105-0573, Fast Track Generic Clearance for the Collection of Qualitative Feedback on Agency Service Delivery.

Instructions: Please submit comments only and cite Information Collection 2105-0573, Fast Track Generic Clearance for the Collection of Qualitative Feedback on Agency Service Delivery in all correspondence related to this collection. To confirm receipt of your comment(s), please check regulations.gov, approximately two-to-three business days after submission to verify posting (except allow 30 days for posting of comments submitted by mail).

FOR FURTHER INFORMATION CONTACT: Requests for additional information should be directed to Daniel Morgan, Assistant Chief Information Officer for Data Services/Chief Data Officer, or via email to daniel.morgan@dot.gov.

SUPPLEMENTARY INFORMATION: Title: Fast Track Generic Clearance for the Collection of Qualitative Feedback on Agency Service Delivery.

Abstract: The information collection activity will garner qualitative customer and stakeholder feedback in an efficient, timely manner, in accordance with the Department's commitment to improving service delivery. By qualitative feedback we mean information that provides useful insights on perceptions and opinions, but are not statistical surveys that yield quantitative results that can be generalized to the population of study. This feedback will provide insight into customer or stakeholder perceptions, opinions, experiences and expectations, provide an early warning of issues with service, or focus attention on areas where communication, training or changes in operations might improve delivery of products or services. These collections will allow for ongoing, collaborative and actionable communications between the Department of Transportation and its customers and stakeholders. It will also allow feedback to contribute directly to the improvement of program management. Feedback or information collected under this generic clearance will provide useful information, but it will not yield data that can be generalized to the overall population.

The U.S. Department of Transportation will only submit collections if they meet the following criteria.

• The collections are voluntary.

• The collections are low-burden for respondents (based on considerations of total burden hours, total number of respondents, or burden-hours per respondent) and are low-cost for both the respondents and the Federal Government.

• The collections are noncontroversial and do not raise issues of concern to other Federal agencies.

• Any collection is targeted to the solicitation of opinions from respondents who have experience with the program or may have experience with the program in the near future.

• Personally identifiable information (PII) is collected only to the extent necessary and is not retained.

• Information gathered is intended to be used only internally for general service improvement and program management purposes and is not intended for release outside of the Department (if released, the Department must indicate the qualitative nature of the information).

This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior to fielding the study. Depending on the degree of influence the results are likely to have, such collections may still be eligible for submission for other generic mechanisms that are designed to yield quantitative results.

Type of Review: Renewal without revision of a previously approved Information Collection Request.

Affected Public: Individuals and Households, Businesses and Organizations, State, Local or Tribal Government.

Estimated Number of Respondents: 240,000.

Estimated Annual Responses: 80,000.

Estimated Annual Burden Hours: 20,000 hours.

Frequency: One-time requirement.

Annual burden hours = (80,000 responses) × (15 minutes) = 1,200,000 min = 20,000 hours.

Total burden hours for 3 years = 20,000 × 3 = 60,000 hours.

Total respondents = 80,000 (each year) × 3 = 240,000.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection Regulations.gov.

An agency may not conduct or sponsor, and a person is not required to respond to, a collection of information unless it displays a currently valid Office of Management and Budget control number.

Dated: July 28, 2022.
Michael Howell,
Paperwork Reduction Act, Information Collection Officer.

[FR Doc. 2022-16539 Filed 8-2-22; 8:45 am]

BILLING CODE 4910-9X-P